DEPARTMENT OF COMMERCE

National Oceanic and Atmospheric Administration

RIN 0648-XA503

Marine Mammals; File No. 16510

AGENCY: National Marine Fisheries Service (NMFS), National Oceanic and Atmospheric Administration (NOAA), Commerce.

ACTION: Notice; issuance of permit.

SUMMARY: Notice is hereby given that Blank Park Zoo [Kevin V. Drees, Responsible Party], 7401 SW Ninth, Des Moines, IA 50315 has been issued a permit to import up to five non-releasable California sea lions (Zalophus californianus) and harbor seals (Phoca vitulina) for public display.

ADDRESSES: The permit and related documents are available for review upon written request or by appointment in the following offices:

Permits, Conservation and Education Division, Office of Protected Resources, NMFS, 1315 East-West Highway, Room 13705, Silver Spring, MD 20910; phone (301) 427-8401; fax (301) 713-0376; and

Southeast Region, NMFS, 263 13th Avenue South, Saint Petersburg, Florida 33701; phone (727) 824-5312; fax (727) 824-5309.

FOR FURTHER INFORMATION CONTACT: Laura Morse or Jennifer Skidmore, (301) 427-8401.

SUPPLEMENTARY INFORMATION: On June 24, 2011, notice was published in the Federal Register (76 FR 37063) that a request for a public display permit, had been submitted by the above-named organization to import up to five non-releasable marine mammals over the next five year period including two harbor seals in the fall of 2011 from the Marine Mammal Rescue Division of the Vancouver Aquarium, Vancouver, Canada for purposes of public display. The requested permit has been granted under the authority of the Marine Mammal Protection Act of 1972, as amended (16 U.S.C. 1361 et seq.) and the regulations governing the taking and importing of marine mammals (50 CFR part 216).

In compliance with the National Environmental Policy Act of 1969 (42 U.S.C. 4321 et seq.), a final determination has been made that the activity proposed is categorically excluded from the requirement to prepare an environmental assessment or environmental impact statement.

Dated: September 16, 2011.
P. Michael Payne,
Chief, Permits, Conservation and Education Division, Office of Protected Resources, National Marine Fisheries Service.

[FR Doc. 2011-24248 Filed 9-20-11; 8:45 am]

BILLING CODE 3510-22-P